AFRICAN DEVELOPMENT FOUNDATION

Board of Directors Meeting

Meeting: African Development Foundation, Board of Directors Meeting.

Time: Tuesday, October 19, 2010 8:30 a.m. to 1 p.m.

Place: African Development Foundation, Conference Room, 1400 I Street, NW., Suite 1000, Washington, DC 20005

Date: Tuesday, October 19, 2010.

Status: 1. Open session, Tuesday, October 19, 2010, 8:30 a.m. to 12 p.m.; and

2. Closed session, Tuesday, October 19, 2010, 12 p.m. to 1 p.m.

Due to security requirements and limited seating, all individuals wishing to attend the open session of the meeting must notify Michele M. Rivard at (202) 673-3916 or mrivard@usadf.gov of your request to attend by 5 p.m. on Thursday, October 14, 2010.

Lloyd O. Pierson,
President & CEO, USADF.

[FR Doc. 2010-24325 Filed 9-27-10; 8:45 am]

BILLING CODE P